DEPARTMENT OF COMMERCE

National Oceanic and Atmospheric Administration

RIN 0648-XH44

Endangered Species; File No. 10022

AGENCY: National Marine Fisheries Service (NMFS), National Oceanic and Atmospheric Administration (NOAA), Commerce.

ACTION: Issuance of permit.

SUMMARY: Notice is hereby given that Raymond Carthy, Department of Wildlife Ecology and Conservation, University of Florida, P.O. Box 110485, Gainesville, Florida 23611-0450, has been issued a permit to take loggerhead (Caretta caretta), green (Chelonia mydas), and Kemp's ridley (Lepidochelys kempii) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521;

Southeast Region, NMFS, 263 13th Ave South, St. Petersburg, FL 33701; phone (727)824-5312; fax (727)824-5309.

FOR FURTHER INFORMATION CONTACT: Patrick Opay or Amy Hapeman, (301)713-2289.

SUPPLEMENTARY INFORMATION: On November 26, 2007, notice was published in the Federal Register (72 FR 65940) that a request for a scientific research permit to take sea turtles had been submitted by the above-named individual. The requested permit has been issued under the authority of the Endangered Species Act of 1973, as amended (ESA; 16 U.S.C. 1531 et seq.) and the regulations governing the taking, importing, and exporting of endangered and threatened species (50 CFR parts 222-226).

Researchers will determine the significance of Florida's northwest coastal bays to sea turtle development. Researchers will assess sea turtle population abundance and composition, determine size classes, evaluate growth, identify seasonal movements, define overwintering behaviors, and investigate developmental migration. The permit authorizes the researchers to conduct research off the northwest coast of Florida for 5 years. Researchers will capture up to 40 loggerhead, 600 green, and 110 Kemp's ridley sea turtles using strike-net or set-net capture techniques. Animals will be weighed, measured, photographed, skin biopsied, flipper and Passive Integrated Transponder tagged, and released.

Issuance of this permit, as required by the ESA, was based on a finding that such permit (1) was applied for in good faith, (2) will not operate to the disadvantage of such endangered or threatened species, and (3) is consistent with the purposes and policies set forth in section 2 of the ESA.

Dated: April 23, 2008.
P. Michael Payne,
Chief, Permits, Conservation and Education Division, Office of Protected Resources, National Marine Fisheries Service.

[FR Doc. E8-9389 Filed 4-28-08; 8:45 am]

BILLING CODE 3510-22-S